DEPARTMENT OF HEALTH AND HUMAN SERVICES

Administration for Children and Families

Proposed Information Collection Activity; Comment Request

Title: Culture of Continuous Learning Project: A Breakthrough Series Collaborative for Improving Child Care and Head Start Quality.

OMB No.: New Collection.

Description: The Office of Planning, Research and Evaluation (OPRE) in the Administration for Children and Families (ACF) is proposing an information collection activity for the Culture of Continuous Learning Project. The goal of the project is to assess the feasibility of implementing continuous quality improvement methods in early care and education programs to support the use and sustainability of evidence-based practices. A Breakthrough Series Collaborative (BSC), a specific model designed to support learning and improvement among practitioners at all levels of an organization, will be implemented in Head Start and child care settings. The BSC methodology has not been tested rigorously in early care and education programs, but has been studied in health care and other fields. The findings will be of broad interest to child care early education programs as well as training and technical assistance providers and researchers, all of whom are interested in improving the quality of services young children receive.

Head Start and child care programs that voluntarily participate in the BSC will be asked to complete a number of implementation tools as part of the BSC activities. Data collection for the feasibility study will involve focus groups, online surveys, direct observation, and document review.

Respondents: Up to 18 early childhood centers will be invited to express interest in participating in the BSC. Up to 8 centers will be selected to participate in the BSC and feasibility study. Core BSC Teams consisting of up to 6 individuals (e.g., directors, lead teachers, assistant teachers, teacher aides, parents, curriculum specialists, etc.) each from four Early Head Start or Head Start programs and four child care programs in a selected geographic location (for a total of 48 individuals); and up to 24 additional teachers or program staff at the same centers who are not part of the Core BSC Team.

Annual Burden Estimates
Instrument | Total/annual number of respondents | Number of responses per respondent | Average burden hours per response | Annual burden hours
Selection Questionnaire | 18 | 1 | 1 | 18
Pre-Work Assignment: Team Meeting | 48 | 1 | 1 | 48
Pre-Work Assignment: Data Collection Plan | 16 | 1 | 2 | 32
Plan, Do, Study, Act Worksheets | 48 | 48 | .25 | 576
Discussion Forum Postings | 48 | 48 | .25 | 576
Learning Session Day 1 Evaluation | 48 | 4 | .17 | 33
Learning Session Day 2 Evaluation | 48 | 4 | .25 | 48
Teaching Pyramid Observation Tool (TPOT) | 28 | 2 | .25 | 14
Early Childhood Work Environment Survey (ECWES) | 72 | 2 | .25 | 36
Pre-/Post-Online Survey | 72 | 2 | .67 | 96
Self-report of BSC Activities | 72 | 1 | .08 | 6
Teacher Background Questionnaire | 40 | 2 | .17 | 14
Core BSC Team Focus Group Topic Guide | 48 | 1 | 1.25 | 60

Estimated Total Annual Burden Hours: 1,557.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-15850 Filed 7-27-17; 8:45 am]

BILLING CODE 4184-23-P